DEPARTMENT OF THE INTERIOR

Fish and Wildlife Service

50 CFR Part 17

Endangered and Threatened Wildlife and Plants; Reopening of the Comment Period for the Columbian Sharp-Tailed Grouse Status Review

AGENCY: Fish and Wildlife Service, Interior.

ACTION: Status review; notice of reopening of comment period.

SUMMARY: We, the U.S. Fish and Wildlife Service (Service), pursuant to the Endangered Species Act of 1973, as amended (Act), provides notice of the reopening of the comment period for the Columbian sharp-tailed grouse (Tympanuchus phasianellus columbianus) status review. The comment period is reopened to accommodate requests by various federal and state wildlife resource agencies for additional time to provide input. Reopening of the comment period will also allow further opportunity for all interested parties to submit additional information and written comments to be considered by the Service for this status review (see DATES and ADDRESSES).

DATES: Written materials from all interested parties must be received by March 27, 2000.

ADDRESSES: Written comments, data, reports, map products, and other information concerning this status review should be sent to the Field Supervisor, U.S. Fish and Wildlife Service, Upper Columbia River Basin Field Office, 11103 East Montgomery Drive, Spokane, Washington 99206.

FOR FURTHER INFORMATION CONTACT: Chris Warren, at the address listed above (telephone 509/891-6839; facsimile 509/891-6748).

SUPPLEMENTARY INFORMATION:

Background

The Columbian sharp-tailed grouse is one of six recognized subspecies of sharp-tailed grouse that occur in North America (AOU 1957). Compared to the other subspecies, Columbian sharp-tailed grouse are described as slightly smaller with darker gray plumage. Historically, Columbian sharp-tailed grouse range extended westward from the continental divide in Montana, Idaho, Wyoming, and Colorado to northeastern California and eastern Oregon and Washington; southward to northern Nevada and central Utah; and northward through central British Columbia.

Columbian sharp-tailed grouse rely on a variety of native habitats within the sagebrush-bunchgrass, meadow-steppe, mountain shrub, and riparian zones of the northwestern United States (Giesen and Connelly 1993). Various upland habitats, with a component of more dense riparian or mountain shrub habitat to provide escape cover, are important to the subspecies from spring to fall. The availability of suitable wintering habitat, containing a dominant component of deciduous trees and shrubs, is also thought to be a key element to healthy Columbian sharp-tailed grouse populations (Marks and Marks 1987, Giesen and Connelly 1993).

In 1979, the range wide population estimate for the Columbian sharp-tailed grouse was approximately 60,000 to 170,000 individuals, with roughly 60 to 80 percent occurring in British Columbia (Miller and Graul 1980). Miller and Graul (1980) also estimated that the subspecies occupied less than 10 percent of its historic range in Idaho, Montana, Utah, and Wyoming, 10 to 50 percent in Colorado and Washington, and 80 percent or more in British Columbia. The current minimum to maximum range wide population estimate for the Columbian sharp-tailed grouse is approximately 30,000 to 70,000 individuals, with roughly 60 to 70 percent occurring in southeastern Idaho. The Columbian sharp-tailed grouse has been extirpated from California (circa 1920), Nevada (circa 1950), and Oregon (circa 1960) (Miller and Graul 1980).

Declines in the overall abundance of Columbian sharp-tailed grouse and the extent of its occupied range have acted to isolate various populations of the subspecies. Three relatively large populations of Columbian sharp-tailed grouse still exist; one in northwestern Colorado to south-central Wyoming, one in southeastern Idaho to northern Utah, and one in central British Columbia. To varying degrees, the remaining areas occupied by the subspecies are made up of relatively small and isolated local populations.

Much of the historic area used by Columbian sharp-tailed grouse has been converted for crop production and affected by other influences including rural and suburban development, dam construction, minerals exploitation, chaining, herbicide spraying, and fire (Miller and Graul 1980, Wood 1991, Giesen and Connelly 1993). In addition, grazing practices over large portions of Columbian sharp-tailed grouse range may negatively impact native habitats (Hart et al. 1950, Miller and Graul 1980, Kessler and Bosch 1982, Giesen and Connelly 1993). Intensive grazing pressure may be especially detrimental to nesting and wintering habitats used by Columbian sharp-tailed grouse populations, primarily due to impacts on their cover and food resources.

Much of the area currently and potentially occupied by Columbian sharp-tailed grouse is in private ownership. Presently, large portions of these privately owned lands are withdrawn from crop production and planted to native and non-native cover under the Federal Conservation Reserve Program (CRP) (USDA 1998). CRP lands have become very important to Columbian sharp-tailed grouse in Colorado, Idaho, Oregon, Utah, and Washington. A number of CRP contracts are scheduled to expire from 1999 through the year 2002. The potential net changes that may occur under the CRP vary considerably by the counties and states occupied by Columbian sharp-tailed grouse. Presently, it is unclear what affects these potential changes may have on the subspecies' populations.

Currently, Columbian sharp-tailed grouse are hunted in Colorado, Idaho, and British Columbia. Hunting is not likely to have an additive affect over natural mortality for relatively large, stable populations of upland birds under managed conditions (Braun et al. 1994). However, depending on the status of the hunted population and hunter access patterns, some areas may act as population “sinks” and be adversely impacted by additional mortality. Incidental or illegal take of the subspecies may also occur, especially in areas hunted extensively for other upland game (Hart et al. 1950, Miller and Graul 1980).

Reintroduction efforts for Columbian sharp-tailed grouse have taken place in Washington, Montana, Oregon, Nevada, and Idaho. Many early reintroduction efforts conducted for prairie grouse (including sharp-tailed grouse) failed to produce self-sustaining populations or to increase the size or distribution of augmented populations (Toepfer et al. 1990). However, several recent efforts have shown greater potential to be effective as the techniques for reintroductions have improved.

The Service published a notice in the Federal Register on October 26, 1999, announcing that a range wide status review for the Columbian sharp-tailed grouse was being conducted (64 FR 57620). The original comment period for this status review closed December 27, 1999. The Service will now accept information concerning this status review through March 27, 2000. The Service will also solicit the opinions of appropriate and independent specialists regarding the data, assumptions, and supportive information presented for the Columbian sharp-tailed grouse status review, per the Interagency Cooperative Policy for Peer Review in Endangered Species Act Activities (59 FR 34270).

References Cited

AOU. 1957. American Ornithological Union Check-list of North American Birds. The Lord Baltimore Press, Inc., Baltimore, Maryland. pp 137-139.

Braun, C.E., K.M. Giesen, R.W. Hoffman, T.E. Remington, and W.D. Snyder. 1994. Upland Bird Management Analysis Guide, 1994-1998. Div. Report No. 19, Colorado Division of Wildlife. pp 1-39.

Giesen, K.M. and J.W. Connelly. 1993. Guidelines for Management of Columbian Sharp-tailed Grouse Habitats. Wildl. Soc. Bull. 21:325-333.

Hart, C.M., O.S. Lee, and J.B. Low. 1950. The Sharp-tailed Grouse in Utah—Its Life History, Status, and Management. Pub. No. 3, Utah State Dept. of Fish and Game.

Kessler, W.B. and R.P. Bosch. 1982. Sharp-tailed Grouse and Range Management Practices in Western Rangelands. Pages 133-146 in J.M. Peek and P.D. Dalke, eds. Wildlife—Livestock Relationships Symp. 10th Proc. Univ. of Idaho For., Wildl., and Range Exp. Stn., Moscow, Idaho.

Marks, J.S. and V.S. Marks. 1987. Habitat selection by Columbian Sharp-tailed Grouse in West-central Idaho. Bureau of Land Management Report, Boise, Idaho. 115 pp.

Miller, G.C. and W.D. Graul. 1980. Status of Sharp-tailed Grouse in North America. Pages 18-28 in P.A. Bohs and F.L. Knopf, eds., Proc. of the Prairie Grouse Symp., Oklahoma State Univ., Stillwater.

Toepfer, J.E., R.L. Eng, and R.K. Anderson. 1990. Translocating Prairie Grouse: What Have We Learned? Trans. 55th N.A. Wildl. and Nat. Res. Conf. pp 569-579.

USDA. 1998. The Conservation Reserve Program: 16th Signup. January 29, 1998 Report by the Farm Service Agency. 249 pp.

Wood, M.A. 1991. Columbian Sharp-tailed Grouse Mitigation Implementation Plan for Western Montana. Report by the Montana Dept. of Fish, Wildlife, and Parks. 24 pp.

Author: The primary author of this notice is Chris Warren of the Upper Columbia River Basin Field Office, U.S. Fish and Wildlife Service, 11103 East Montgomery Drive, Spokane, Washington 99206 (Telephone: 509/891-6839).

Authority: The authority of this action is the Endangered Species Act of 1973, as amended (16 U.S.C. 1531 et seq.).

Dated: January 13, 2000.
Thomas Dwyer,
Acting Regional Director, Fish and Wildlife Service.

[FR Doc. 00-1446 Filed 1-21-00; 8:45 am]

BILLING CODE 4310-55-p